ENVIRONMENTAL PROTECTION AGENCY

[FRL-7507-6]

Adequacy Determination for the Kansas City Area Ozone Maintenance State Implementation Plan (SIP) for Transportation Conformity Purposes

AGENCY: Environmental Protection Agency (EPA).

ACTION: Notice of adequacy determination.

SUMMARY: In this notice, EPA is informing the public that we have found the motor vehicle emissions budgets for volatile organic compounds and nitrogen oxides in the Kansas City area adequate for conformity purposes. The budgets were submitted with the Kansas City Maintenance Plan for Control of Ozone which addresses the second ten-year period from the years 2003 through 2012. The Plan was submitted under two separate SIP submittals by the state of Kansas and the state of Missouri. The motor vehicle emissions budgets in each SIP were for the Kansas City Maintenance area and the budgets were the same for both states. We have determined that the budget submitted by the state of Kansas is adequate, and that the budget submitted by the state of Missouri is adequate.

DATE: This finding is effective June 20, 2003.

FOR FURTHER INFORMATION CONTACT: The finding and the response to comments will be available at EPA's conformity Web site: http://www.epa.gov/otaq/transp/traqconf.htm (click on “Adequacy Web Pages”).

You may also contact Heather Hamilton, Environmental Protection Agency, 901 N. 5th Street, Kansas City, Kansas 66101, or e-mail at hamilton.heather@epa.gov, telephone (913) 551-7039.

SUPPLEMENTARY INFORMATION: Throughout this document wherever “we,” “us,” or “our” is used, we mean EPA.

We sent a letter to the Kansas Department of Health and Environment and the Missouri Department of Natural Resources on March 17, 2003, stating that the motor vehicle emissions budgets in the Kansas City area submitted with the Kansas City Maintenance Plan for Control of Ozone were adequate. The Kansas City Maintenance Plan for Control of Ozone addresses the second ten-year period from the years 2003 through 2012.

On March 2, 1999, the D.C. Circuit Court ruled that submitted SIPs cannot be used for conformity determinations until EPA has affirmatively found them adequate. As a result of our adequacy finding, the Kansas City Area must use the motor vehicle emissions budgets from the submitted Kansas City Maintenance Plan for Ozone for future conformity determinations.

We described our process for determining the adequacy of submitted SIP budgets in a guidance memorandum dated May 14, 1999, entitled, “Conformity Guidance on Implementation of March 2, 1999, Conformity Court Decision.” We followed this guidance in making our adequacy determination.

Transportation conformity is required by section 176(c) of the Clean Air Act. EPA's conformity rule requires that transportation plans, programs, and projects conform to SIPs and establishes the criteria and procedures for determining whether or not they do. Conformity to a SIP means that transportation activities will not produce new air quality violations, worsen existing violations, or delay timely attainment of the national ambient air quality standards.

The criteria by which we determine whether SIP motor vehicle emission budgets are adequate for conformity purposes are outlined in 40 CFR 93.118(e)(4). We applied these criteria in finding that the submitted budgets are adequate. Please note that an adequacy review is separate from EPA's completeness review, and it also should not be used to prejudge EPA's ultimate approval of the SIP. Even if we find a budget adequate, the SIP could later be disapproved.

Authority: 42 U.S.C. 7401-7671 q.

Dated: May 22, 2003.
James B. Gulliford,
Regional Administrator, Region 7.

[FR Doc. 03-14195 Filed 6-4-03; 8:45 am]

BILLING CODE 6560-50-P